DEPARTMENT OF TRANSPORTATION

Federal Railroad Administration

[Docket Number FRA-2014-0002]

Petition for Waiver of Compliance

In accordance with Part 211 of Title 49 Code of Federal Regulations (CFR), this document provides the public notice that by a document dated December 30, 2013, the Union Pacific Railroad (UP) has petitioned the Federal Railroad Administration (FRA) for a waiver of compliance from certain provisions of the Federal railroad safety regulations contained at 49 CFR Part 240, Qualification and Certification of Locomotive Engineers, and 49 CFR Part 242, Qualification and Certification of Conductors. FRA assigned the petition Docket Number FRA-2014-0002.

UP seeks relief from 49 CFR 240.104(b) pertaining to the criteria for determining whether movement of roadway maintenance equipment or a dual purpose vehicle requires a certified locomotive engineer. At UP's Roseville, CA, facility, qualified mechanical department employees operate car movers to switch and pull cars from designated bad order bowl tracks and then move the defective rolling stock to a mechanical car shop for repair. The railroad asserts that the car mover should not be considered a locomotive and should be classified as a specialized roadway maintenance vehicle that would not require a qualified and certified locomotive engineer to operate it.

The railroad's petition states that a car mover has been used for years for the switching of rolling stock for repair. UP further indicates that it “locks out” the yard bowl tracks, thus providing the mechanical employees exclusive temporary control of specific tracks during movements outside the confines of the mechanical repair facility. Additionally, the vehicle operator is trained on physical operation, applicable railroad operating rules and instructions, and applicable Federal regulations. Finally, the qualified mechanical department personnel are tested under the provisions of 49 CFR 217.9, Program of operational tests and inspections; recordkeeping, and 49 CFR Part 218, Railroad Operating Practices, Subpart F.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received within May 12, 2014 of the date of this notice will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-06846 Filed 3-27-14; 8:45 am]

BILLING CODE 4910-06-P